DEPARTMENT OF STATE

[Public Notice 6548]

Shipping Coordinating Committee; Notice of Meeting

The Shipping Coordinating Committee (SHC) will conduct an open meeting at 9:30 a.m. on Friday, May 1, 2009, in Room 2415 of the United States Coast Guard Headquarters Building, 2100 Second Street, SW., Washington, DC 20593. The primary purpose of the meeting is to prepare for the International Maritime Organization (IMO) Diplomatic Conference for the Safe and Environmentally Sound Recycling of Ships to be held at the Hong Kong Convention and Exhibition Centre (HKCEC), 1 Expo Drive, Wanchai, Hong Kong, China, from May 11-15, 2009.

The provisional agenda calls for the Conference to consider the draft International Convention for the Safe and Environmentally Sound Recycling of Ships, the text of which has been prepared by the IMO Marine Environment Protection Committee (MEPC), and any draft Conference resolutions. The Conference agenda also calls for the adoption of the Final Act and any instruments, recommendations and resolutions resulting from the work of the Conference, as well as signature of the Final Act.

Members of the public may attend the May 1st meeting of the SHC up to the seating capacity of the room. Please note that due to security considerations, two valid, government-issued photo identification documents must be presented to gain entrance to the building. The Coast Guard Headquarters building is accessible by taxi and privately owned conveyance. Please note that parking in the vicinity of the building is extremely limited and that public transportation is not generally available.

To facilitate attendance to this meeting, those who plan to attend should contact the meeting coordinator, LCDR Jason Smith—not later than 9:30 a.m. on Tuesday, April 28, 2009—by e-mail at jason.e.smith2@uscg.mil; by phone at (202) 372-1376; by fax at (202) 372-1925; or by writing to Commandant (CG-5212), U.S. Coast Guard Headquarters, 2100 2nd Street, SW., Room 1308, Washington, DC 20593-0001. Additional information regarding other SHC public meetings and associated IMO meetings may be found at: http://www.uscg.mil/hq/cg5/imo.

Dated: April 7, 2009.
Mark Skolnicki,
Executive Secretary, Shipping Coordinating Committee, Department of State.

[FR Doc. E9-8394 Filed 4-10-09; 8:45 am]

BILLING CODE 4710-09-P